NATIONAL ARCHIVES AND RECORDS ADMINISTRATION

[NARA-2023-019]

Agency Information Collection Activities: Submission for OMB Review; Comment Request

AGENCY: National Archives and Records Administration (NARA).

ACTION: Notice.

SUMMARY: We have submitted a request to the Office of Management and Budget (OMB) for approval to continue to use a currently approved information collection used by researchers who wish to do biomedical statistical research in archival records containing highly personal information. We invite you to comment on the proposed information collection.

DATES: OMB must receive written comments on or before March 17, 2023.

ADDRESSES: Send any comments and recommendations on the proposed information collection in writing to www.reginfo.gov/public/do/PRAMain. You can find this particular information collection by selecting “Currently under 30-day Review—Open for Public Comments” or by using the search function.

FOR FURTHER INFORMATION CONTACT: Tamee Fechhelm, Paperwork Reduction Act Officer, by email at tamee.fechhelm@nara.gov or by telephone at 301.837.1694 with any requests for additional information.

SUPPLEMENTARY INFORMATION: Pursuant to the Paperwork Reduction Act of 1995 (Pub. L. 104-13), we invite the public and other Federal agencies to comment on proposed information collections. We published a notice of proposed collection for this information collection on December 8, 2022 (87 FR 75295) and we received no comments We are therefore submitting the described information collection to OMB for approval.

If you have comments or suggestions, they should address one or more of the following points:

(a) whether the proposed information collection is necessary for NARA to properly perform its functions;

(b) our estimate of the burden of the proposed information collection and its accuracy;

(c) ways we could enhance the quality, utility, and clarity of the information we collect;

(d) ways we could minimize the burden on respondents of collecting the information, including through information technology; and

(e) whether this collection affects small businesses.

In this notice, we solicit comments concerning the following information collection:

Title: Statistical Research in Archival Records Containing Personal Information.

OMB number: 3095-0002.

Agency form number: None.

Type of review: Regular.

Affected public: Individuals.

Estimated number of respondents: 2.

Estimated time per response: 7 hours.

Frequency of response: On occasion.

Estimated total annual burden hours: 14 hours.

Abstract: The information collection is prescribed by 36 CFR 1256.28 and 36 CFR 1256.56. Respondents are researchers who wish to do biomedical statistical research in archival records containing highly personal information. NARA needs the information to evaluate requests for access to ensure that the requester meets the criteria in 36 CFR 1256.28 and that the proper safeguards will be made to protect the information.

Sheena Burrell,
Executive for Information Services/CIO.

[FR Doc. 2023-03242 Filed 2-14-23; 8:45 am]

BILLING CODE 7515-01-P